SOCIAL SECURITY ADMINISTRATION

20 CFR Part 423

RIN 0960-AG34

Service of Process

AGENCY: Social Security Administration (SSA).

ACTION: Final rules.

SUMMARY: We are amending our rules regarding service of legal process in lawsuits involving judicial review of Agency final decisions on individual claims for benefits under titles II, VIII, and/or XVI of the Social Security Act (Act). Under the current rules, summonses and complaints in these types of cases are required to be sent to the Social Security Administration (SSA), Office of the General Counsel (OGC) in Baltimore, Maryland. These final rules provide that summonses and complaints in these types of cases shall be mailed directly to the OGC office that is responsible for the processing and handling of litigation in the particular jurisdiction in which the complaint has been filed. The names and addresses of those offices, and the jurisdictions for which they are currently responsible, are detailed in a separate notice in the Notices section of today's Federal Register. Future changes in the addresses and/or jurisdictional responsibilities of these offices will similarly be published in the Federal Register. Current procedures for service of summonses and complaints in all other types of cases filed against SSA, i.e., those that do not involve judicial review of Agency final decisions on individual claims for benefits under titles II, VIII, and/or XVI of the Act, are not affected by this change.

DATES: These regulations are effective December 9, 2005.

Electronic Version: The electronic file of this document is available on the date of publication in the Federal Register on the Internet site for the Government Printing Office, http://www.gpoaccess.gov/fr/index.html.

FOR FURTHER INFORMATION CONTACT: Lawrence A. Levey, Office of the General Counsel, Office of Program Law, Social Security Administration, 6401 Security Boulevard, Baltimore, MD 21235-6401, (410) 965-3460.

SUPPLEMENTARY INFORMATION: The current rules at 20 CFR part 423, entitled Service of Process, have been in effect since April 14, 1995, and reflect essentially the same procedures and practices that were applicable to SSA when it was a component of the Department of Health and Human Services. At that time, the OGC office in Baltimore was our office of record for all nationwide litigation involving judicial review of individual benefit claims arising under titles II, VIII, and/or XVI of the Act (transcript litigation). We recently have changed some of our procedures for the processing and handling of this litigation. In particular, the Regional Chief Counsels' offices are now the OGC offices of record for their specific assigned jurisdictions. The current rules, which require that all summonses and complaints be mailed to SSA's General Counsel in Baltimore, Maryland, do not reflect these changes of responsibility.

These new rules more accurately reflect SSA's current procedures for the processing and handling of transcript litigation cases. Pursuant to these rules, summonses and complaints in transcript litigation cases shall be mailed directly to the OGC office that is responsible for the processing and handling of litigation in the particular jurisdiction in which the complaint has been filed. This change is designed to eliminate the need for unnecessary transfers between OGC offices, to reduce delays on SSA's part in responding to summonses and complaints, and to improve the efficiency of SSA's litigation processes.

Explanation of Changes

We are revising § 423.1 by providing, in a new paragraph (a), that summonses and complaints in transcript litigation cases shall be served by mailing them directly to the OGC office which is responsible for the processing and handling of litigation in the particular jurisdiction in which the complaint has been filed. Paragraph (a) further provides that the names, addresses, and jurisdictional responsibilities of the various OGC offices will be published in the Federal Register and made available on-line at SSA's Internet site, http://www.socialsecurity.gov. The current procedures for service of complaints and summonses in cases that do not involve judicial review of individual benefit claims arising under titles II, VIII, and/or XVI of the Act are unaffected by this change, and are set forth in a new paragraph (b).

Since complaints and summonses in cases falling within the purview of § 423.1 are appropriately served upon the Commissioner, we have also removed from that section the current reference to service upon “other employees of the Social Security Administration in their official capacities.”

Regulatory Procedures

Pursuant to section 702(a)(5) of the Social Security Act, 42 U.S.C. 902(a)(5), as amended by section 102 of Public Law 103-296, SSA follows the Administrative Procedure Act (APA) rulemaking procedures specified in 5 U.S.C. 553 in the development of its regulations. The APA provides exceptions to its notice and public comment procedures when an agency finds there is good cause for dispensing with such procedures on the basis that they are impracticable, unnecessary, or contrary to the public interest.

In the case of these final rules, we have determined that, under 5 U.S.C. 553(b)(B), good cause exists for dispensing with the notice and public comment procedures. Good cause exists because these regulations merely conform our rules on service of process to our internal distribution of responsibility for the handling and processing of litigation, contain no substantive changes in policy or interpretation, and have no significant effect upon claimants for benefits or payments under the programs we administer and no significant effect upon the public. In addition, these rules provide only rules of practice and procedure which do not require public comment procedures. Therefore, opportunity for prior comment is unnecessary, and we are issuing these regulations as final rules.

In addition, we find good cause for dispensing with the 30-day delay in the effective date of a substantive rule provided by 5 U.S.C. 553(d). For the reasons cited above, we find that it is in the public interest to make this final rule effective on the date of publication.

Executive Order 12866, as Amended by Executive Order 13258

We have consulted with the Office of Management and Budget (OMB) and determined that these proposed regulations do not meet the criteria for a significant regulatory action under Executive Order (E.O.) 12866, as amended by E.O. 13258. Thus, they were not subject to OMB review. We have also determined that these rules meet the plain language requirement of Executive Order 12866, as amended by Executive Order 13258.

Regulatory Flexibility Act

We certify that these final regulations will not have a significant economic impact on a substantial number of small entities under the criteria of the Regulatory Flexibility Act, as amended, 5 U.S.C. 601 et seq., as they affect only individuals. Therefore, a regulatory flexibility analysis as provided in the Regulatory Flexibility Act, as amended, is not required.

Paperwork Reduction Act

These final regulations impose no additional information collection requirements requiring OMB clearance under the Paperwork Reduction Act of 1995, 44 U.S.C. 3501, et seq.

(Catalog of Federal Domestic Assistance Program Nos. 96.001, Social Security—Disability Insurance; 96.002, Social Security—Retirement Insurance; 96.004, Social Security—Survivors Insurance; 96.006, Supplemental Security Income)

List of Subjects in 20 CFR Part 423

Courts.

Dated: December 5, 2005.
Jo Anne B. Barnhart,
Commissioner of Social Security.

For the reasons set forth in the preamble, we are amending part 423 of title 20 of the Code of Federal Regulations as follows:

PART 423—SERVICE OF PROCESS

1. The authority citation for part 423 continues to read as follows:

Authority: Secs. 701 and 702(a)(5) of the Social Security Act (42 U.S.C. 901 and 902(a)(5)).

2. Section 423.1 is revised to read as follows:

§ 423.1 Suits against the Social Security Administration and its employees in their official capacities.

(a) Suits involving claims arising under Titles II, VIII, and/or XVI. In cases seeking judicial review of final Agency decisions on individual claims for benefits under titles II, VIII, and/or XVI of the Social Security Act, summonses and complaints to be served by mail on the Social Security Administration or the Commissioner of Social Security should be sent to the office in the Social Security Administration's Office of the General Counsel that is responsible for the processing and handling of litigation in the particular jurisdiction in which the complaint has been filed. The names, addresses, and jurisdictional responsibilities of these offices are published in the Federal Register, and are available on-line at the Social Security Administration's Internet site, http://www.socialsecurity.gov.

(b) Other suits. In cases that do not involve claims described in paragraph (a) of this section, summonses and complaints to be served by mail on the Social Security Administration or the Commissioner of Social Security should be sent to the General Counsel, Social Security Administration, Room 617, Altmeyer Building, 6401 Security Boulevard, Baltimore, MD 21235.

[FR Doc. 05-23836 Filed 12-8-05; 8:45 am]

BILLING CODE 4191-02-P